DEPARTMENT OF HEALTH AND HUMAN SERVICES

Centers for Medicare & Medicaid Services

[Document Identifiers: CMS-10553 and CMS-R-305]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by July 11, 2022.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number: Room C4-26-05, 7500 Security Boulevard, Baltimore, Maryland 21244-1850.

To obtain copies of a supporting statement and any related forms for the proposed collection(s) summarized in this notice, you may make your request using one of following:

1. Access CMS' website address at website address at https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10553 Medicaid Managed Care Quality including Supporting Regulations

CMS-R-305 External Quality Review (EQR) of Medicaid and Children's Health Insurance

Program (CHIP) Managed Care, EQR Protocols, and Supporting Regulations

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Title of Information Collection: Medicaid Managed Care Quality including Supporting Regulations; Type of Information Collection Request: Extension of a currently approved collection; Use: Medicaid beneficiaries and stakeholders use the information collected and reported to understand the state's quality improvement goals and objectives, and to understand how the state is measuring progress on its goals. States use this information to help monitor and assess the performance of their Medicaid managed care programs. This information may assist states in comparing the outcomes of quality improvement efforts and can assist them in identifying future performance improvement subjects. CMS uses this information as a part of its oversight of Medicaid programs. Form Number: CMS-10553 (OMB control number: 0938-1281); Frequency: Annually; Affected Public: Private Sector, Business or other for-profits and State, Local or Tribal Governments; Number of Respondents: 376; Number of Responses: 2,655; Total Annual Hours: 36,010. (For questions regarding this collection contact Jennifer Maslowski at 312-886-2567.)

2. Title of Information Collection: External Quality Review (EQR) of Medicaid and Children's Health Insurance Program (CHIP) Managed Care, EQR Protocols, and Supporting Regulations; Type of Information Collection Request: Revision of a currently approved collection; Use: This 2022 information collection request proposes to revise the active external quality review (EQR) protocols (which were last revised in 2019). The revisions would: (1) Align the existing protocols, appendices, and worksheets with the 2020 Medicaid managed care final rule, and (2) add a new protocol, Validation of Network Adequacy (RIN 0938-AS25, CMS-2480-F). A summary of these changes includes, but is not limited to, adding three elements to 42 CFR 438.358(b)(1)(iii) to include a review of elements 438.56, 438.100, and 438.114; establishing the first protocol for the new mandatory activity described in 438.358(b)(1)(iv) for network adequacy validation for managed care organizations (MCOs), prepaid inpatient health plans (PIHPs), and prepaid ambulatory health plans (PAHPs); and other formatting changes. Form Number: CMS-R-305 (OMB control number: 0938-0786); Frequency: Annually; Affected Public: Private Sector, Business or other for-profits and State, Local or Tribal Governments; Number of Respondents: 603; Number of Responses: 5,945; Total Annual Hours: 413,310. (For questions regarding this collection contact Jennifer Maslowski at 312-886-2567.)

Dated: May 5, 2022.
William N. Parham, III,
Director, Paperwork Reduction Staff, Office of Strategic Operations and Regulatory Affairs.

[FR Doc. 2022-10064 Filed 5-10-22; 8:45 am]

BILLING CODE 4120-01-P